DEPARTMENT OF TRANSPORTATION

Federal Aviation Administration

Agency Information Collection Activity Under OMB Review

AGENCY: Federal Aviation Administration (FAA), DOT.

ACTION: Notice.

SUMMARY: In compliance with the Paperwork Reduction Act of 1995 (44 U.S.C. 3501 et seq.), this notice announces that the six Information Collection Requests (ICRs) abstracted below have been forwarded to the Office of Management and Budget (OMB) for extension of the currently approved collections. The ICR describes the nature of the information collections and the expected burdens. The Federal Register Notices with a 60-day comment period soliciting comments on the following collections of information were published on November 14, 2001 on pages 57149-57150 for (2120-0514) and January 31, 2002 on page 4775 for (2120-0003, 2120-0027, 2120-0507, 2120-0574, 2120-0644).

DATES: Comments must be submitted on or before July 1, 2002. A comment to OMB is most effective if OMB receives it within 30 days of publication.

FOR FURTHER INFORMATION CONTACT: Judy Street on (202) 267-9895.

SUPPLEMENTARY INFORMATION:

Federal Aviation Administration (FAA)

1. Title: Malfunction or Defect Report (Other than scheduled air carriers).

Type of Request: Extension of a currently approved collection.

OMB Control Number: 2120-0003.

Forms(s): FAA Form 8010-4.

Affected Public: Repair station operators certified under Part 145 and air taxi operators certified under Part 135.

Abstract: The information collection required by FAR 135 and 145 are authorized by U.S. Code, Title 49, Chapter 447, Subsection 44702, as amended, which empowers the Secretary of Transportation to issue certificates for air taxi operators and repair stations, respectively, and to prescribe such terms, conditions, and limitations on those certificates, as necessary to ensure safety in air transportation. Submission of malfunction or defect reports are necessary to ensure that safety.

Estimated Annual Burden Hours: An estimated 8,407 hours annually.

2. Title: Application for Certificate of Waiver or Authorization.

Type of Request: Extension of a currently approved collection.

OMB Control Number: 2120-0027.

Forms(s): FAA Form 7711-2.

Affected Public: Airmen, state & local governments, and businesses that wish to apply for authorization to occupy navigable airspace, generating around 25,000 responses.

Abstract: Part A of Subtitle VII of the Revised Title 49, United States Code, authorizes the issuance of regulations governing the use of navigable airspace. 14 CFR parts 91, 101, and 105 prescribe regulations governing the general operation and flight of aircraft, moored balloons, kites, unmanned rockets, unmanned free balloons, and parachute jumping. Applicants are individual airmen, state and local governments, and businesses.

Estimated Annual Burden Hours: An estimated 12,202 hours annually.

3. Title: Special Federal Aviation Regulation (SFAR) 36, Development of Major Repair Data.

Type of Request: Extension of a currently approved collection.

OMB Control Number: 2120-0507.

Form(s): FAA form 8100-8.

Affected Public: A total of 19 aircraft maintenance personnel, either already holding authorization to develop major repair data or applying for that authorization.

Abstract: SFAR 36 (to part 121) relieves qualifying applicants (Aircraft maintenance, commercial aviation, aircraft repair stations, air carriers, commercial operators) of the burden to obtain FAA approval of data developed by them for the major repairs on a case-by-case basis; and provides for one-time approvals.

Estimated Annual Burden Hours: An estimated 326 hours annually.

4. Title: War Risk Insurance.

Type of Request: Extension of a currently approved collection.

OMB Control Number: 2120-0514.

Form(s): N/A.

Affected Public: A total of 76 estimated claimants for War Risk Insurance.

Abstract: The information submitted by applicants for Chapter 443 insurance is used by the FAA to determine the reasonableness of the terms and conditions on which commercial insurance is available, assess the risks for which insurance coverage is being sought, and determine what risks of aircraft operators' are customarily covered by insurance. Without this information, the FAA could not fulfill the statutory requirements or due diligence for issuance of insurance. Therefore, without this information, the FAA could not issue insurance.

Estimated Annual Burden Hours: An estimated 1,668 hours annually.

5. Title: Aviation Safety Counselor of the Year Award.

Type of Request: Extension of a currently approved collection.

OMB Control Number: 2120-0574.

Form(s): FAA Form 8740-14.

Affected Public: A total of 180 private citizens involved in aviation who nominate individuals for the award.

Abstract: The form is used to nominate individuals for recognition of their volunteer service to the FAA. The agency will use the information on the form to select nine regional winners and one national winner.

Estimated Annual Burden Hours: An estimated 180 hours annually.

6. Title: Commercial Space Transportation Licensing Requirements for Operation of a Launch Site.

Type of Request: Extension of a currently approved collection.

OMB Control Number: 2120-0644.

Form(s): N/A.

Affected Public: A total of 2 licensees authorized to operate commercial launch sites.

Abstract: The information collected includes data required for performing launch site location analysis. The launch site license is valid for a period of five years.

Estimated Annual Burden Hours: An estimated 1,592 hours annually.

ADDRESSES: Send comments to the Office of Information and Regulatory Affairs, Office of Management and Budget, 725 17th Street, NW, Washington, DC 20503, Attention FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on May 17, 2002.
Judith D. Street,
Acting Manager, Standards and Information Division, APF-100.

[FR Doc. 02-13708 Filed 5-30-02; 8:45 am]

BILLING CODE 4910-13-M